DEPARTMENT OF COMMERCE

Submission for OMB Review; Comment Request

The Department of Commerce (DOC) submitted to the Office of Management and Budget (OMB) for clearance the following collection of information under the provisions of the Paperwork Reduction Act (44 U.S.C. Chapter 35). This request has been submitted under the emergency processing provisions of the Paperwork Reduction Act.

Agency: Technology Administration.

Title: Review of Public and Private High-tech Workforce Training Programs.

Agency Form Numbers(s): None.

OMB Approval Number: None.

Type of Request: Emergency submission.

Burden Hours: 750 hours.

Number of Respondents: 420.

Average Hour Per Response: 1 to 2 hours depending on the requirement.

Needs and Uses: This information collection is needed to fulfill the Secretary of Commerce's responsibilities mandated in Public Law 106-313. Section 115 (a) and (b) directs the Secretary of Commerce to conduct a review of existing public and private high-tech workforce training programs in the United States, and submit a report to Congress on the study findings no later than 18 months from the bill's enactment. This information is needed to analyze how high-tech workers obtain their training, and how well the skills provided by various high-tech training models meet employer needs. An analysis of what is learned from this information collection will be contained in the report to Congress. Comparable information is not available on a standardized basis.

Affected Public: Individuals or households, business or other for-profit organizations, not-for-profit institutions, Federal, state, local or tribal government.

Frequency: One-Time.

Respondent's Obligation: Voluntary.

OMB Desk Officer: David Rostker, (202) 395-3897.

Copies of the above information collection can be obtained by calling or writing Madeleine Clayton, Departmental Paperwork Clearance Officer, (202) 482-3129, Department of Commerce, Room 6086, 14th and Constitution Avenue, NW., Washington, DC 20230 (or via Internet at mclayton@doc.gov).

Written comments and recommendations for the proposed information collection should be sent within 30 days of publication of this notice to Dave Rostker, OMB Desk Officer, Room 10202, New Executive Office Building, Washington, DC 20503.

Dated: August 1, 2001.
Gwellnar Banks,
Management Analyst, Office of the Chief Financial Officer.

[FR Doc. 01-19676 Filed 8-6-01; 8:45 am]

BILLING CODE 3510-18-P